ENVIRONMENTAL PROTECTION AGENCY

[FRL-7976-3]

Clean Water Act; Contractor Access to Confidential Business Information

AGENCY: Environmental Protection Agency (EPA).

ACTION: Notice of Intended Transfer of Confidential Business Information to Contractors and Subcontractors.

SUMMARY: The Environmental Protection Agency (EPA) intends to transfer confidential business information (CBI) collected from the drinking water treatment industry, airport deicing operations, and other industries to Battelle and its subcontractors. Transfer of the information will allow the contractor and subcontractors to support EPA in the planning, development, and review of effluent limitations guidelines and standards under the Clean Water Act (CWA) and the development of discharge standards for certain Alaskan cruise ship operations. The information being transferred was or will be collected under the authority of section 308 of the CWA. Some information being transferred from the pulp, paper, and paperboard industry was collected under the additional authorities of section 114 of the Clean Air Act (CAA) and section 3007 of the Resource Conservation and Recovery Act (RCRA). Interested persons may submit comments on this intended transfer of information to the address noted below.

DATES: Comments on the transfer of data are due October 3, 2005.

ADDRESSES: Comments may be sent to Mr. M. Ahmar Siddiqui, Document Control Officer, Engineering and Analysis Division (4303T), Room 6231S EPA West, U.S. EPA, 1200 Pennsylvania Ave, NW., Washington, DC 20460.

FOR FURTHER INFORMATION CONTACT: Mr. M. Ahmar Siddiqui, Document Control Officer, at (202) 566-1044, or via e-mail at siddiqui.ahmar@epa.gov.

SUPPLEMENTARY INFORMATION: EPA has transferred CBI to various contractors and subcontractors over the history of the effluent guidelines program. EPA determined that this transfer was necessary to enable the contractors and subcontractors to perform their work in supporting EPA in planning, developing, and reviewing effluent guidelines and standards for certain industries.

Today, EPA is giving notice that it has entered into a contract with Battelle, number EP-C-05-030, located in Columbus, Ohio. The reason for this contract is to secure additional statistical analysis support for EPA in its development, review, implementation, and defense of water-related initiatives. To obtain assistance in responding to this contract, Battelle has entered into contracts with the following subcontractors: Waterstone Environmental Hydrology and Engineering, Inc. (located in Boulder, Colorado) and Jorge Scientific Corporation (Arlington, Virginia).

All EPA contractor, subcontractor, and consultant personnel are bound by the requirements and sanctions contained in their contracts with EPA and in EPA's confidentiality regulations found at 40 CFR Part 2, Subpart B. Battelle and its subcontractors adhere to EPA-approved security plans which describe procedures to protect CBI. The procedures in these plans are applied to CBI previously gathered by EPA for the industries identified below and to CBI that may be gathered in the future for these industries. The security plans specify that contractor and subcontractor personnel are required to sign non-disclosure agreements and are briefed on appropriate security procedures before they are permitted access to CBI. No person is automatically granted access to CBI: a need to know must exist.

The information that will be transferred to Battelle and its subcontractors consists primarily of information previously collected by EPA to support the development and review of effluent limitations guidelines and standards under the CWA and the development of discharge standards for certain Alaskan cruise ship operations. In particular, information, including CBI, collected for the planning, development, and review of effluent limitations guidelines and standards for the following industries may be transferred: Airport deicing; aquaculture; concentrated animal feeding operations; centralized waste treatment; coal mining; drinking water treatment; industrial container and drum cleaning; industrial laundries; industrial waste combustors; iron and steel manufacturing; landfills; meat and poultry products; metal finishing; metal products and machinery; nonferrous metals manufacturing; oil and gas extraction (including coalbed methane); ore mining and dressing; organic chemicals, plastics, and synthetic fibers; pesticide chemicals; pharmaceutical manufacturing; petroleum refining; pulp, paper, and paperboard manufacturing; steam electric power generation; textile mills; timber products processing; tobacco; and transportation equipment cleaning. In addition, for the development of standards for Alaskan cruise ships, EPA may transfer information, including CBI, about large cruise ships that operate in the waters around Alaska.

EPA also intends to transfer to Battelle and its subcontractors all information listed in this notice, of the type described above (including CBI) that may be collected in the future under the authority of section 308 of the CWA or voluntarily submitted (e.g., in comments in response to a Federal Register notice), as is necessary to enable Battelle and its subcontractors to carry out the work required by their contracts to support EPA's effluent guidelines planning process, the development of effluent limitations guidelines and standards, and the development of discharge standards for cruise ships.

Dated: September 21, 2005.
Pamela Barr,
Acting Director, Office of Science and Technology.

[FR Doc. 05-19355 Filed 9-27-05; 8:45 am]

BILLING CODE 6560-50-P